FARM CREDIT ADMINISTRATION

12 CFR Parts 603, 605, 608, and 611

RIN 3052-AC34

Privacy Act Regulations; Information; Collection of Claims Owed the United States; Organization; Privacy and Security Information; Effective Date

AGENCY: Farm Credit Administration.

ACTION: Notice of effective date.

SUMMARY: The Farm Credit Administration (FCA) published a final rule under parts 603, 605, 608, and 611 on September 20, 2006 (71 FR 54899). This final rule updates and amends the regulations regarding privacy and security information and other matters. This action was taken to correct certain citations in the regulations and to conform the regulations to Executive order 13292. In accordance with 12 U.S.C. 2252, the effective date of the final rule is 30 days from the date of publication in the Federal Register during which either or both Houses of Congress are in session. Based on the records of the sessions of Congress, the effective date of the regulations is January 23, 2007.

Effective Date: The regulation amending 12 CFR parts 603, 605, 608, and 611, published on September 20, 2006 (71 FR 54899) is effective January 23, 2007.

FOR FURTHER INFORMATION CONTACT: Mike Wilson, Policy Analyst, Office of Policy and Analysis, Farm Credit Administration, McLean, VA 22102-5090, (703) 883-4498, TTY (703) 883-4434; or Bob Taylor, Attorney, Office of General Counsel, Farm Credit Administration, McLean, VA 22102-5090, (703) 883-4020, TTY (703) 883-4020.

(12 U.S.C. 2252(a)(9) and (10))

Dated: January 23, 2007.
Roland E. Smith,
Secretary, Farm Credit Administration Board.

[FR Doc. E7-1328 Filed 1-26-07; 8:45 am]

BILLING CODE 6705-01-P